Title 3—

The President

Proclamation 10353 of March 28, 2022

Commemoration of the 50th Anniversary of the Vietnam War

By the President of the United States of America

A Proclamation

On National Vietnam War Veterans Day, we honor all those who bravely served in the Vietnam War and who sacrificed, as did their families and caregivers, on behalf of our Nation.

For almost two decades, Americans raised their right hands and committed to serve and defend our Constitution as uniformed members of the United States Armed Forces during a tumultuous period in our country's history. Throughout the years of the Vietnam War, 9 million Americans earned the title of United States veteran. Today and every day, we honor their bravery and commitment and give thanks to a generation of Americans who valiantly fought in service of the country they love while recognizing the continuing impact on so many veterans of the Vietnam conflict, along with their families, caregivers, and survivors. We will always remember those we lost and honor those who came home.

In 2012, our Nation launched a 13-year long commemoration of the 50th anniversary of the Vietnam War to ensure that every veteran, family, caregiver, and survivor impacted by the difficult years in Vietnam feels our Nation's gratitude for their sacrifice. Every service member of the Vietnam generation should know that their sacrifices mattered and that their service made a difference. The names etched in The Wall at the Vietnam Veterans Memorial remind us of our loved ones who gave their all and never came home. To the families, caregivers, and survivors of the more than 58,000 service members whose names are memorialized in the black granite, we pledge to never forget the eternal sacrifice of your loved ones and what you have sacrificed for the Nation.

To the families of the over 1,500 service members who remain missing and unaccounted for, know that our Nation's efforts to bring them home will never stop.

We pledge our steadfast care and support to our Vietnam veterans, as we do for all of our veterans. We will honor our sacred obligation to you and your family.

And to each of the 6 million Vietnam War era veterans who are with us today, we honor your service and all that you have done for our Nation.

NOW, THEREFORE, I, JOSEPH R. BIDEN JR., President of the United States of America, by virtue of the authority vested in me by the Constitution and the laws of the United States, do hereby affirm this Nation's commitment to commemorate the 50th Anniversary of the Vietnam War, which began on Memorial Day, May 28, 2012, and which will continue through Veterans Day, November 11, 2025. I call upon all Americans to seek out and extend the Nation's profound gratitude to each of our Vietnam veterans and their families and caretakers during public ceremonies and programs throughout the country, while expressing deep compassion for the families of the fallen, those who remain missing and unaccounted for, and all others who served yet no longer walk among us.

IN WITNESS WHEREOF, I have hereunto set my hand this twenty-eighth day of March, in the year of our Lord two thousand twenty-two, and of the Independence of the United States of America the two hundred and forty-sixth.

[FR Doc. 2022-06933

Filed 3-30-22; 8:45 am]

Billing code 3395-F2-P